DEPARTMENT OF STATE

[Public Notice: 8939]

Fine Arts Committee; Notice of Meeting

The Fine Arts Committee of the Department of State will meet on November 14, 2014 at 8:30 a.m. in the Henry Clay Room of the Harry S. Truman Building, 2201 C Street NW., Washington, DC. The meeting will last until approximately 3:00 p.m. and is open to the public.

The agenda for the committee meeting will include a summary of the work of the Fine Arts Office since its last meeting on April 23, 2014 and the announcement of gifts and loans of furnishings as well as financial contributions from April 23, 2014 through October 30, 2014.

Public access to the Department of State is strictly controlled and space is limited. Members of the public wishing to take part in the meeting should telephone the Fine Arts Office at (202) 647-1990 or send an email to WallaceJA@State.gov by November 5th to make arrangements to enter the building. The public may take part in the discussion as long as time permits and at the discretion of the chairman.

Dated: October 30, 2014.
Marcee Craighill,
Fine Arts Committee, Department of State.

[FR Doc. 2014-26441 Filed 11-6-14; 8:45 am]

BILLING CODE 4710-24-P